ENVIRONMENTAL PROTECTION AGENCY

40 CFR Parts 52 and 81

[EPA-R10-OAR-2024-0371; FRL-12159-02-R10]

Designation of Areas for Air Quality Planning Purposes; Redesignation Request and Associated Maintenance Plan for Whatcom County, WA 2010 SO2 Nonattainment Area

AGENCY: Environmental Protection Agency (EPA).

ACTION: Final rule.

SUMMARY: On July 25, 2024, the State of Washington (WA) submitted a request for the Environmental Protection Agency (EPA) to redesignate to attainment a portion of Whatcom County immediately surrounding the now permanently closed aluminum smelter, Intalco Aluminum LLC, which the EPA designated nonattainment for the 2010 1-hour primary sulfur dioxide (SO2) National Ambient Air Quality Standard (NAAQS). Washington also submitted a request for the EPA to approve a State Implementation Plan (SIP) revision containing a maintenance plan for the area. The EPA is taking the following final actions: we have determined that the Whatcom County (partial) SO2 nonattainment area (Whatcom County area or area) is attaining the 2010 1-hour primary SO2 NAAQS; we are approving Washington's plan for maintaining attainment of the 2010 1-hour primary SO2 NAAQS in the area; and we are redesignating the Whatcom County area to attainment for the 2010 1-hour primary SO2 NAAQS.

DATES: This final rule is effective January 16, 2025.

ADDRESSES: The EPA has established a docket for this action under Docket ID No. EPA-R10-OAR-2024-0371. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Jeff Hunt, EPA Region 10, 1200 Sixth Avenue, Suite 155, Seattle, WA 98101, at (206) 553-0256 or hunt.jeff@epa.gov.

SUPPLEMENTARY INFORMATION: Throughout this document, wherever “we” or “our” is used, it means the EPA.

I. Background

On September 27, 2024 (89 FR 79195), The EPA proposed to take the following four separate but related actions: (1) determine that the Whatcom County area is attaining the 2010 1-hour SO2 NAAQS; (2) approve Washington's plan for maintaining the 2010 1-hour SO2 NAAQS (maintenance plan), including proposed approval of a “reproducible approach” to representing the air quality of the affected area; (3) redesignate the Whatcom County area to attainment for the 2010 1-hour SO2 NAAQS; and (4) determine that the Whatcom County area has clean monitoring data.

The public comment period for the proposed actions closed on October 28, 2024. We received two anonymous comments, document EPA-R10-OAR-2024-0371-0014 (comment #1) and EPA-R10-OAR-2024-0371-0015 (comment #2). Both comments expressed support for the EPA's approval of Washington's redesignation request and maintenance plan. However, comment #1 and comment #2 raised concerns about Washington's ability to verify continued attainment. In addition, comment #2 suggested the contingency measures contain more specificity and that Washington should include a public accessibility plan in its Maintenance Plan. The full text of the comments may be found in the docket for this action, and we have responded to the relevant comments in section II. of this preamble. Under the Clean Air Act (CAA), the Administrator is required to approve a SIP submission that complies with the provisions of the CAA and applicable Federal regulations. 42 U.S.C. 7410(k); 40 CFR 52.02(a). Thus, in reviewing SIP submissions, the EPA's role is to approve State choices, provided that they meet the criteria of the CAA.

II. EPA Responses to Comments Received

A. Monitoring Network and Verification of Continued Attainment

Comment: The EPA's proposed rulemaking provided a synopsis of Washington's strategy for verification of continued attainment in the area as part of the State's maintenance plan.¹ A more detailed explanation of Washington's “reproducible approach” to representing air quality, submitted to allow future monitor system modification under 40 CFR 58.14(c)(3), was provided in the maintenance plan itself.² With respect to this issue, comment #1 contains the statement, “although this has well solidified evidence, it is necessary to continue monitoring the nonattainment and attainment areas of Whatcom County to ensure the air quality stays in line with the EPA's NAAQS. If the EPA did approve the request from Washington State it would further confirm the EPA's dedication to implementing their own policies.” Comment #2 states, “while the plan allows for flexibility in adjusting SO2 monitoring sites, it is crucial to consider that SO2 impacts often disproportionately affect vulnerable communities. Could the EPA establish clearer criteria or a more rigorous review process before relocating or decommissioning monitors? This would ensure that communities previously affected by emissions from the Intalco facility continue to have adequate air quality protections, even in the absence of a large point source.”

¹ See 89 FR 79195 (September 27, 2024) at pages 79200-79202.

² See Chapter 6, Verification of Attainment, Control Measures, and Maintenance Demonstration, at pages 35-43.

Response: We agree that Washington's maintenance plan should contain provisions for monitoring air quality in the area and verifying continued attainment. As discussed in the preamble to the proposed rulemaking, the maintenance plan contains these provisions and otherwise meets the maintenance plan requirements in CAA section 175A and the EPA's associated guidance.³ Neither comment directly addresses the EPA's evaluation of these provisions in the preamble to the proposed rulemaking nor provides a basis for disapproving Washington's maintenance plan. To the extent the comments imply that the maintenance plan is inadequate to monitor and verify continued attainment or lacks specificity in this regard, we disagree. The following discussion summarizes Washington's approach to monitoring air quality in the area post-redesignation and verifying continued attainment.

³ 42 U.S.C. 7505a and the September 4, 1992, Memorandum from John Calcagni titled “Procedures for Processing Requests to Redesignate Areas to Attainment.”

In the EPA's December 2020 technical support document for the nonattainment designation, we determined the region of violation was most likely due to plume downwash at the Intalco facility during certain wind conditions, that the modeled area of violation did not extend far from the Intalco facility fence line, that the gradient of concentration near the areas of violation was steep, quickly dropping with distance from the Intalco facility fence line, and that other nearby industrial facilities did not sufficiently contribute to violations of the 1-hour primary SO2 NAAQS to warrant inclusion in the nonattainment area boundary.⁴ In our final nonattainment boundary determination, we concurred with the Washington Department of Ecology (Ecology) and Northwest Clean Air Agency (NWCAA) that the boundary should be drawn to encompass the cause of the SO2 violations, the Intalco facility.

⁴ See 201_Appendix A Whatcom County SO2 Area Designation.pdf, included in the docket for this action.

With the permanent closure of the Intalco facility, Washington's comprehensive emissions inventory, prepared as part of the maintenance plan, shows no remaining significant sources of SO2, including mobile or area source emissions.⁵ Therefore, in the absence of any current SO2 emission sources, Washington's monitoring network and verification of continued attainment strategy focused on potential future emission sources that may be located within the area.⁶

⁵ See Chapter 5, Emissions Inventory, at pages 25-34.

⁶ See Chapter 6, Verification of Attainment, Control Measures, and Maintenance Demonstration, at pages 35-43.

As described in our proposed rulemaking and the State's maintenance plan, the new source review (NSR) program ensures that any single facility applying for a permit to locate within the area complies with the NAAQS and other regulatory requirements.⁷ In addition, Washington's maintenance plan included a stepwise process for assessing the cumulative impacts of new sources constructed in the area and triggering deployment of SO2 monitors. This process ensures that cumulative impacts remain below the NAAQS should multiple facilities move to the area. Under the maintenance plan verification of continued attainment provisions, Washington, with NWCAA as the lead agency for the jurisdiction in coordination with Ecology, will evaluate the cumulative impacts of the new source or modifications using three sequential “Action Levels.”

⁷ See 89 FR 79195 (September 27, 2024) at page 79201.

Under Action Level 1, Washington will conduct cumulative dispersion modeling using potential emissions if two conditions are met: (1) the cumulative potential SO2 emissions in the area are greater than or equal to 250 tons per year of SO2 and (2) the proposed new source or modification has the potential to emit 40 tons per year of SO2 (the significant emission rate under the major NSR program). Washington will use the EPA's preferred screening and dispersion modeling tools identified in 40 CFR part 51 appendix W (“Appendix W”) as normally applicable for any source seeking a construction permit under the NSR program. If the results of the modeling under Action Level 1 indicate a design concentration of greater than or equal to 90% of the 1-hour NAAQS, then Washington will proceed to Action Level 2.

Under Action Level 2, Washington will conduct refined dispersion modeling that uses actual emissions from existing sources and potential emissions from the new source or modification. If the results of that modeling indicate a design concentration of greater than or equal to 50% of the 1-hour SO2 NAAQS, then Washington will proceed to Action Level 3.

Under Action Level 3, Washington will deploy SO2 ambient monitors within 1 year of the initial startup of the new source or modification. Any new monitors established for verification of continued attainment will be operated as State and Local Air Monitoring Stations (SLAMS) as part of Ecology's Primary Quality Assurance Organization (PQAO). Ecology will verify that monitor siting complies with 40 CFR part 58 appendix E (Probe and Monitoring Path Siting Criteria for Ambient Air Quality Monitoring) and will include any new site proposals in its annual Ambient Air Monitoring Network Plan. This plan is available for public inspection and comment for at least 30 days before its submission to the EPA by July 1 of each year. Any such proposal will be subject to review and approval by the EPA Regional Administrator, following the process described in 40 CFR 58.10.

Therefore, we disagree with the implication in comment #2 that the verification of continued attainment framework described in the State's maintenance plan lacked clear criteria or a rigorous review process. The commenter provided no details for improving the methodology or raising specific concerns with the presented framework.

With respect to the broader issue of protecting “communities previously affected by emissions from the Intalco facility” we agree with the commenter that these communities should be protected against future violations of health-based air quality standards. Washington's maintenance plan does so, and the commenter did not provide any specific reasons why the EPA should find to the contrary. We note that during the operation of the Intalco facility, the areas impacted by the elevated levels of SO2 were very close to the facility's fence line and did not reach the nearby city of Ferndale.⁸ More importantly, there are no current SO2 sources in the area or SO2 exposure risks. Current 2021-2023 design value SO2 concentrations in the area are 3 parts per billion (ppb), much lower than the EPA's health-based NAAQS of 75 ppb.

⁸ See Chapter 2, Intalco—Ferndale SO2 Nonattainment Area, at pages 8-9.

With respect to monitoring, we reiterate that the current monitors were sited for the specific purpose of measuring building downwash impacts immediately surrounding the Intalco facility and thus are not necessarily suitable to assessing impacts to the surrounding community.⁹ Accordingly, Washington included in its maintenance plan its reproducible approach to assessing future impacts on the community from new sources. This approach—coupled with NWCAA and Washington's NSR program—is adequate to ensure future development does not cause or contribute to a violation of the SO2 NAAQS.

⁹ See 201_Appendix A Whatcom County SO2 Area Designation.pdf and 202_Intalco Sulfur Dioxide Attainment Plan_2202035.pdf, included in the docket for this action.

B. Contingency Measures

Comment: Comment #2 stated “while the contingency measures are well-defined, additional detail about specific control measures and response timelines would help reassure the public of the plan's robustness. Particularly, if SO2 levels approach the National Ambient Air Quality Standards (NAAQS) threshold, having a more explicit list of immediate actions the EPA or the Northwest Clean Air Agency (NWCAA) would take would demonstrate the agency's commitment to rapid response in the event of future exceedances.”

Response: We disagree that Washington's contingency measures should be more specific. As discussed in the preamble of our proposed rulemaking, the only significant source of SO2 in the area has permanently shut down, thus the cause of any potential future NAAQS exceedance is unknown. Therefore, Washington cannot develop specific contingency measures as part of its maintenance plan.¹⁰ Rather, Washington committed to concrete trigger levels and timelines for determining the appropriate contingency measures, but did not include specific measures in its maintenance plan. Therefore, our position remains that Washington's maintenance plan contains such contingency provisions as the Administrator deems necessary to assure that the State will promptly correct any violation of the standard which occurs after the redesignation of the area as an attainment area.¹¹

¹⁰ See 89 FR 79195 (September 27, 2024) at page 79202.

¹¹ CAA section 175A(d).

C. Impacts of Future Sources

Comment: Comment #2 stated “while I understand that the Clean Air Act may not require environmental justice analysis for this action, it would be prudent to consider the impacts of future sources or monitoring changes on historically marginalized communities. The inclusion of a public accessibility plan to provide real-time air quality data would support EPA's goals under Executive Order 12898, ensuring fair treatment and meaningful involvement of all residents in air quality decisions.”

Response: The EPA responded to the commenter's concern regarding monitoring changes in section II.A of this preamble. With respect to impacts of future sources, our proposed rulemaking discussed how the NSR permitting program is the mechanism the EPA, States, and local clean air agencies use to assess the impacts of future sources. Washington's SIP includes NWCAA Rule 300 which establishes the minor NSR program applicable to sources constructed or modified in the Ferndale Area. Under Rule 300, save for certain limited exemptions, sources with a potential to emit more than 2.0 tons per year (tpy) of SO2 must obtain approval prior to construction.¹² NWCAA may not approve construction or modification unless, among other things, the source will employ best available control technology and allowable emissions will not cause or contribute to a violation of any NAAQS.¹³ As to the latter, NWCAA may require modeling using the EPA guidelines in appendix W of 40 CFR part 51 to determine whether construction and operation of the source will cause or contribute to a violation of any NAAQS.

¹² Rule 300.1(A); 300.4.

¹³ Rule 300.9.

Washington's SIP also includes a major new source review program to regulate the construction and modification of major sources constructed or modified in the Ferndale Area.¹⁴ In general, Washington's major NSR program incorporates by reference the Federal major NSR program at 40 CFR 52.21. The major NSR program applies to sources with a potential to emit of 100 tpy of any regulated NSR pollutant for certain listed source categories, and 250 tpy of any regulated NSR pollutant for unlisted sources. Regulated NSR pollutant includes pollutants for which the EPA has established a NAAQS. Similar to the minor NSR program, all sources subject to the major NSR program must obtain a permit before commencing construction. In order to obtain a permit, the source must, among other things, demonstrate the source will apply best available control technologies for each regulated NSR pollutant that the source has the potential to emit in significant amounts. In the case of SO2, the significant emissions rate is 40 tpy. In addition, the source must demonstrate through dispersion modeling that construction and operation of the source will not cause or contribute to a violation of any NAAQS or violate any prevention of significant deterioration increment. We believe the NSR permitting programs described above provide the best tools available for assessing impacts to communities from future sources.

¹⁴ 40 CFR 52.2470(c); WAC 173-400-113 and WAC 173-400-700 through 173-400-750.

III. Final Action

For the reasons stated in our proposed rulemaking (89 FR 79195, September 27, 2024) and in section II. of this preamble, we are taking the following three separate but related final actions: (1) determining that the Whatcom County area is attaining the 2010 1-hour SO2 NAAQS; (2) approving Washington's plan for maintaining the 2010 1-hour SO2 NAAQS, including approval of a “reproducible approach” to representing the air quality of the affected area; and (3) redesignating the Whatcom County area to attainment for the 2010 1-hour SO2 NAAQS.

Specifically, as described in our proposed rulemaking, the EPA has determined that the Whatcom County area is attaining the 2010 1-hour primary SO2 NAAQS based on the most recent complete monitoring data for the three-year (2021-2023) design value period.

The EPA is approving the maintenance plan under the 2010 1-hour SO2 NAAQS for the Whatcom County area into the Washington SIP (under CAA section 175A). The maintenance plan demonstrates that the area will continue to maintain the 2010 1-hour SO2 NAAQS and includes a process to develop and implement contingency measures to remedy any future violations of the 2010 1-hour SO2 NAAQS and procedures for evaluating potential violations.

The EPA has determined that the Whatcom County area has met the criteria under CAA section 107(d)(3)(E) for redesignation from nonattainment to attainment for the 2010 1-hour SO2 NAAQS. On this basis, the EPA is approving Washington's redesignation request for the area. Accordingly, the EPA is revising the legal designation of the portion of Whatcom County designated nonattainment at 40 CFR 81.348 to attainment for the 2010 1-hour SO2 NAAQS.

The EPA is not finalizing a Clean Data Determination for the Whatcom County area. As noted in our proposed rulemaking, the EPA proposed the option to finalize a clean data determination in the event that the EPA did not finalize the proposed redesignation. However, because the EPA is finalizing the redesignation of the area to attainment, it is not finalizing this portion of the proposal.

IV. Statutory and Executive Order Reviews

Under the CAA, redesignation of an area to attainment is an action that affects the status of a geographical area and does not impose any additional regulatory requirements on sources beyond those imposed by State law. A redesignation to attainment does not in and of itself create any new requirements, but rather results in the applicability of requirements contained in the CAA for areas that have been redesignated to attainment.

In addition, the Administrator is required to approve a SIP submission that complies with the provisions of the Clean Air Act and applicable Federal regulations. 42 U.S.C. 7410(k); 40 CFR 52.02(a). Thus, in reviewing SIP submissions, the EPA's role is to approve State choices, provided that they meet the criteria of the Clean Air Act.

Accordingly, this action merely approves State law as meeting Federal requirements and does not impose additional requirements beyond those imposed by State law. For these reasons, this final action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.” The Washington Department of Ecology did evaluate environmental justice considerations as part of its SIP submittal; the CAA and applicable implementing regulations neither prohibit nor require such an evaluation. The EPA did not perform an EJ analysis and did not consider EJ in this action. Consideration of EJ is not required as part of this action, and there is no information in the record inconsistent with the stated goal of Executive Order 12898 of achieving environmental justice for communities with EJ concerns.

In addition, this final action, pertaining to redesignation of the Whatcom County area and approval of a maintenance plan for the area, would not be approved to apply on any Indian reservation land or in any other area where the EPA or an Indian Tribe has demonstrated that a Tribe has jurisdiction. In those areas of Indian country, the rule would not have Tribal implications and would not impose substantial direct costs on tribal governments or preempt Tribal law as specified by Executive Order 13175 (65 FR 67249, November 9, 2000). Consistent with EPA policy, the EPA provided a consultation opportunity to Tribes located near the Whatcom County area, in letters dated July 25, 2024 and July 29, 2024, included in the docket for this action.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by February 18, 2025. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Intergovernmental relations, Sulfur dioxide, Reporting and recordkeeping requirements.

Dated: December 11, 2024.
Daniel Opalski,
Acting Regional Administrator, Region 10.

40 CFR parts 52 and 81 are amended as follows:

PART 52—APPROVAL AND PROMULGATION OF IMPLEMENTATION PLANS

1. The authority citation for Part 52 continues to read as follows:

Authority: 42 U.S.C. 7401 et seq.

Subpart WW—Washington

2. In § 52.2470, amend paragraph (e), table 2, by adding the heading “Attainment and Maintenance Planning—Sulfur Dioxide (SO2)” and the entry “Sulfur Dioxide (SO2) Maintenance Plan” immediately after the entry for “Particulate Matter (PM2.5) Maintenance Plan” to read as follows:

§ 52.2470 Identification of plan.

* * * * *

(e) * * *

Table 2—Attainment, Maintenance, and Other Plans
Name of SIP provision | Applicable geographic or nonattainment area | State submittal date | EPA approval date | Explanations
* * * * * * *
Attainment and Maintenance Planning—Sulfur Dioxide (SO2)
Sulfur Dioxide (SO2) Maintenance Plan | Whatcom County | 7/25/24 | 12/17/2024, [INSERT FIRST PAGE OF FEDERAL REGISTER CITATION]
* * * * * * *

* * * * *

PART 81—DESIGNATION OF AREAS FOR AIR QUALITY PLANNING PURPOSES

3. The authority citation for part 81 continues to read as follows:

Authority: 42 U.S.C. 7401 et seq.

4. In § 81.348, amend the table entitled “Washington—2010 Sulfur Dioxide NAAQS” by revising the entry for “Whatcom County (part)” to read as follows:

§ 81.348 Washington.

* * * * *

Washington—2010 Sulfur Dioxide NAAQS
[Primary]
Designated area ¹ | Designation: Date ² | Designation: Type
Whatcom County (part) | January 16, 2025 | Attainment.
That portion of Whatcom County encompassed by the rectangle with the vertices using Universal Traverse Mercator (UTM) coordinates in UTM zone 10 with datum NAD83 as follows: (1) Vertices—UTM Easting (m) 519671, UTM Northing (m) 5412272; (2) Vertices—UTM Easting (m) 524091, UTM Northing (m) 5412261; (3) Vertices—UTM Easting (m) 519671, UTM Northing (m) 5409010; (1) Vertices—UTM Easting (m) 524111, UTM Northing (m) 5409044
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

[FR Doc. 2024-29575 Filed 12-16-24; 8:45 am]

BILLING CODE 6560-50-P